DEPARTMENT OF COMMERCE

National Oceanic and Atmospheric Administration

RIN 0648-XA026

Caribbean Fishery Management Council; Public Meeting

AGENCY: National Marine Fisheries Service (NMFS), National Oceanic and Atmospheric Administration (NOAA), Commerce.

ACTION: Notice of public meetings.

SUMMARY: The Catch Share Panel of the Caribbean Fishery Management Council will hold a public meeting to discuss the issues contained in the enclosed agenda.

DATES: The meeting will be held on December 8, 2010, from 7 p.m. to 9 p.m.

ADDRESSES: The meeting will be held at the Holiday Inn Hotel in Mayaguez, Puerto Rico.

FOR FURTHER INFORMATION CONTACT: Caribbean Fishery Management Council, 268 Muñoz Rivera Avenue, Suite 1108, San Juan, Puerto Rico 00918-2577; telephone: (787) 766-5926.

SUPPLEMENTARY INFORMATION: The Catch Share Panel of The Caribbean Fishery Management Council will hold a public meeting to discuss the following agenda items:

—Alternatives for the collection of statistical data for the deep-water fishes in the west coast of Puerto Rico.

—Report on the “Energy and Fisheries” Workshop—Nelson Crespo.

—“Catch Shares Experience in the United States” Presentation—Greg Engstron.

—Other Issues.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Simultaneous interpretation will be provided (English-Spanish). For more information or request for sign language interpretation and other auxiliary aids, please contact Mr. Miguel A. Rolón, Executive Director, Caribbean Fishery Management Council, 268 Muñoz Rivera Avenue, Suite 1108, San Juan, Puerto Rico, 00918-2577, telephone: (787) 766-5926, at least 5 days prior to the meeting date.

Dated: November 5, 2010.
Tracey L. Thompson,
Acting Director, Office of Sustainable Fisheries, National Marine Fisheries Service.

[FR Doc. 2010-28411 Filed 11-9-10; 8:45 am]

BILLING CODE 3510-22-P